ENVIRONMENTAL PROTECTION AGENCY

[ER-FRL-6675-4]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at 202-564-7167. An explanation of the ratings assigned to draft environmental impact statements (EISs) was published in FR dated April 7, 2006 (71 FR 17845).

Draft EISs

EIS No. 20060083, ERP No. D-AFS-K65301-AZ, Jacob Ryan Vegetation Management Project, Implementation, Kaibab National Forest, North Kaibab Ranger District, Coconino County, AZ.

Summary: EPA expressed environmental concerns about potential effects to regional air quality, water quality, and old growth forest; and recommended that the final EIS include a more detailed air quality effects analysis, implementation plan for BMPs, and management strategy to maintain old growth forest. Rating EC2.

Final EISs

EIS No. 20060139, ERP No. F1-AFS-K65269-CA, Southern California National Forests Land Management Plans, Revision of the Angeles, Cleveland, Los Padres, and San Bernardino National Forests Land Management Plans, Implementation, San Bernardino, Riverside, and San Diego Counties, CA.

Summary: No comment letter was sent to the preparing agency.

EIS No. 20060076, ERP No. F-CGD-G39043-00, Main Pass Energy Hub Deepwater Port License Application, Proposes to Construct a Deepwater Port and Associated Anchorages, U.S. Army COE Section 10 and 404 Permits, Gulf of Mexico (GOM), southeast of the coast of Louisiana in Main Pass Lease Block (MP) 2999 and from the Mississippi coast in MP 164.

Summary: EPA appreciates the improvements that have been incorporated into the proposed LNG project; therefore, concludes that the ORV technology would result in minor adverse impacts to water quality and biological resources. EPA recommends that USCG and the Maritime Administration consider operational modifications to further reduce impacts.

EIS No. 20060111, ERP No. FC-COE-H36012-MO, St. Johns Bayou and New Madrid Floodway Project, Channel Enlargement and Improvement, Revised Information to Clarify and Address Issues of Concern, Flood Control National Economic Development (NED), New Madrid, Mississippi and Scott Counties, MO.

Summary: EPA does not object to proposed project.

Dated: May 16, 2006.
Robert W. Hargrove,
Director, NEPA Compliance Division, Office of Federal Activities.

[FR Doc. E6-7661 Filed 5-18-06; 8:45 am]

BILLING CODE 6560-50-P